DEPARTMENT OF AGRICULTURE

Forest Service

Revision of the Land Management Plans for the Helena and Lewis and Clark National Forests

AGENCY: Forest Service, USDA.

ACTION: Notice of initiation of the assessment phase of the land management plan revision process for the Helena and Lewis and Clark National Forests.

SUMMARY: The Helena and Lewis and Clark National Forests, located in Montana, are initiating the forest planning process pursuant to the 2012 Forest Planning Rule. One assessment and one plan will be developed for both Forests. This process results in a Forest Land Management Plan which describes the strategic direction for management of forest resources for the next ten to fifteen years on the Helena and Lewis and Clark National Forests. The first phase of the process, the assessment phase, is beginning and interested parties will be invited to contribute in the development of the assessment (36 CFR 219.6). The Forests will host open houses, exact dates and times will be posted on the listed below. The assessment is expected to be completed in December 2014. The trends and conditions identified in the assessment will help inform the need for change. With this notice, the Forests invite other governments, non-governmental parties, and the public to help us identify new information on exisiting forest conditions for consideration in the assessement.

DATES: The assessment for the Helena and Lewis and Clark National Forests is expected to be completed by December 31, 2014 and will be posted on the following Web site at www.fs.usda.gov/goto/hlc/forestplanrevision.

From May 2014 through August 2014, the public is invited to provide existing resource information to the Forests to include in the assessment. In early 2015, the public will be invited to engage in a collaborative process to develop a proposed action. The Forests will then initiate procedures pursuant to the NEPA and prepare a revised a forest plan.

ADDRESSES: Written comments or questions concerning this notice should be addressed to Helena and Lewis and Clark National Forests, Attn.: Plan Revision, 2880 Skyway Dr., Helena, Montana 59602.

FOR FURTHER INFORMATION CONTACT: Erin Swiader, Forest Plan Revision Team Leader, 406-495-3774. Individuals who use telecommunication devices for the deaf (TDD) may call the Federal Information Relay Service (FIRS) at 1-800-877-8339 between 8 a.m. and 8 p.m., Eastern Time, Monday through Friday.

More information on the planning process can also be found on the following Web site at www.fs.usda.gov/goto/hlc/forestplanrevision.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans. Forest plans describe the strategic direction for management of forest resources for ten to fifteen years, and are adaptive and amendable as conditions change over time.

The first phase of the planning process is the assessment phase. Under the 2012 Planning Rule, the assessment rapidly evaluates existing information about relevant ecological, social, and economic trends and conditions. The second stage is guided, in part, by the National Environment Policy Act (NEPA) and includes the preparation of an environmental impact statement and revised Forest Plan for public review and comment. The third stage of the process is monitoring and feedback, which is ongoing over the life of the revised forest plans.

As public meetings, other opportunities for public engagement, and public comment opportunities are identified, notifications will be posted on the Forest Plan Revision Web site at www.fs.usda.gov/goto/hlc/forestplanrevision and information will be sent out to the Forest's mailing list. If anyone is interested in being on the Forests' mailing list to receive these notifications, please contact Erin Swiader, Forest Plan Revision Team Leader, at the mailing address identified above, by sending an email to hlcplanrevision@fs.fed.us, or by telephone 406-495-3774.

The responsible official for the revision of the land management plan for the Helena and Lewis and Clark National Forests is William Avey, Forest Supervisor, Helena and Lewis and Clark National Forests, 2880 Skyway Dr., Helena, Montana 59602.

Dated: May 23, 2014.
William Avey,
Forest Supervisor.

[FR Doc. 2014-12515 Filed 5-29-14; 8:45 am]

BILLING CODE 3411-15-P